DEPARTMENT OF ENERGY

Federal Energy Regulatory Commission

[Docket No. RP05-445-001]

Enbridge Offshore Pipelines (UTOS) LLC; Notice of Compliance Filings

September 16, 2005.

Take notice that on September 14, 2005, Enbridge Offshore Pipelines (UTOS) LLC, (UTOS) tendered for filing as part of its FERC Gas Tariff, Fifth Revised Volume No. 1, the following revised tariff sheets, with an effective date of September 1, 2005:

Substitute First Revised Sheet No. 107

Substitute First Revised Sheet No. 108

Substitute First Revised Sheet No. 117

Substitute Original Sheet No. 117A

Substitute Third Revised Sheet No. 121

Substitute Third Revised Sheet No. 122A

Substitute First Revised Sheet No. 137

Substitute First Revised Sheet No. 153

Substitute Fourth Revised Sheet No. 164

UTOS states that it had inadvertently not included WGQ standard 1.3.2(v) verbatim in its FERC Gas Tariff as required, and thus tenders Substitute Third Revised Sheet No. 121 to incorporate such standard in its FERC Gas Tariff, Fifth Revised Volume No. 1.

UTOS states that complete copies of its filing are being mailed to all of the parties on the Commission's official service list, all of its jurisdictional customers, and applicable State commissions.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-5222 Filed 9-27-05; 8:45 am]

BILLING CODE 6717-01-P